DEPARTMENT OF HOMELAND SECURITY

Office of the Secretary

[DHS Docket No. DHS-2017-0004]

Eliminating Exception to Expedited Removal Authority for Cuban Nationals Encountered in the United States or Arriving by Sea

AGENCY: Office of the Secretary, Department of Homeland Security.

ACTION: Notice; correction.

SUMMARY: The Department of Homeland Security (DHS) published a notice in the Federal Register of January 17, 2017, eliminating an exception to expedited removal authority for Cuban nationals encountered in the United States or arriving by sea. The notice contained incorrect contact information under two captions. This correction fixes the errors.

FOR FURTHER INFORMATION CONTACT: David Cloe, DHS Office of Policy, 202-447-4647, David.Cloe@HQ.DHS.GOV.

Correction

In FR Doc. 2017-00914, appearing on page 4903 in the Federal Register of Tuesday, January 17, 2017, the following corrections are made:

1. In the first column, correct the “Mail or Hand Delivery/Courier” bullet to read:

Mail or Hand Delivery/Courier: Please submit all written comments (including and CD-ROM submissions) to David Cloe, DHS Office of Policy, 245 Murray Lane SW., Mail Stop 0445, Washington, DC 20528.

2. In the first column, correct the FOR FURTHER INFORMATION CONTACT caption to read:

David Cloe, DHS Office of Policy, 202-447-4647, David.Cloe@HQ.DHS.GOV.

Signed: at Washington, DC, this 18th of January 2017.
David Shahoulian,
Deputy General Counsel.

[FR Doc. 2017-01664 Filed 1-24-17; 8:45 am]

BILLING CODE 9110-9M-P